DEPARTMENT OF TRANSPORTATION

Federal Highway Administration

Environmental Impact Statement: Cherokee and Forsyth Counties, Georgia

AGENCY: Federal Highway Administration (FHWA), United States Department of Transportation (USDOT).

ACTION: Notice of Intent.

SUMMARY: The FHWA is issuing this notice to advise the public that an Environmental Impact Statement (EIS) will be prepared for the proposed transportation project (State Route 20) located in Cherokee and Forsyth Counties, Georgia.

FOR FURTHER INFORMATION CONTACT: Chetna P. Dixon, Environmental Coordinator, Federal Highway Administration Georgia Division, 61 Forsyth Street, Suite 17T100; Atlanta, Georgia 30303. Phone 404-562-3630 or Karyn Matthews, Project Manager, Georgia Department of Transportation, 600 West Peachtree Street, 25th Floor, Atlanta, Georgia, 30308, Telephone: (404) 631-1584, Email: kmatthews@dot.ga.gov.

SUPPLEMENTARY INFORMATION:

The FHWA, in cooperation with the Georgia Department of Transportation (GDOT), will prepare an EIS for proposed transportation improvements in the vicinity of State Route (SR) 20. The proposed project termini extend for approximately 24 miles beginning between Interstate 575 (I-575) and State Route 400 (SR 400) in Cherokee and Forsyth Counties, Georgia. Current known issues along the corridor include congestion, limited mobility, and safety issues. An EIS will be prepared in accordance with the National Environmental Policy Act (NEPA: 42 U.S.C. 4321 et seq.) of 1969, and the regulations implementing NEPA set forth in 40 CFR PARTS 1500-1508 and 23 CFR part 771, as well as the provisions of Safe Accountable Flexible Efficient Transportation Equity Act: A Legacy for Users (SAFETEA-LU) and Moving Ahead for Progress in the 21st Century (MAP-21).

Public involvement is a critical component of NEPA project development and will occur throughout the development of the EIS. Opportunities for public involvement will be provided during the scoping process. Agency and public scoping meetings will be held in the spring of 2013 to receive oral and written comments on environmental concerns that should be included in the EIS. The dates, times and locations of the public scoping meetings will be published in general circulation newspapers for the project area. Comments regarding the scope of the analysis should be received in writing 30 days after the date of the last scoping meeting. A Public and Agency Coordination Plan will be provided in accordance with 23 U.S. Code Section 139 (23 U.S.C. 139), to facilitate document the lead agencies, structure interaction with the public and other agencies of how the coordination will be accomplished. The Public and Agency Coordination Plans will promote early and continuous involvement among stakeholders, agencies and the public. Letters describing the proposed action and soliciting comments will be sent to appropriate Federal, State and local agencies, and Tribal governments. A project Web site (www.dot.ga.gov/sr20improvements) will be maintained throughout the study. To ensure that the full range of issues related to this proposed action are addressed and all significant issues identified, comments and suggestions are invited from all interested parties. Comments and questions concerning the proposed action and the EIS should be directed to the GDOT or FHWA address above.

(Catalog of Federal Domestic Assistance Program Number 20.205, Highway Planning and Construction. The regulations implementing Executive Order 12372 regarding intergovernmental consultation on Federal programs and activities apply to this program.)

Issued on: April 5, 2013.
Rodney N. Barry,
Division Administrator, Atlanta, Georgia.

[FR Doc. 2013-08462 Filed 4-10-13; 8:45 am]

BILLING CODE P